DEPARTMENT OF STATE

[Public Notice: 9659]

Notice of Public Meeting

The Department of State will conduct an open meeting at 9:00 a.m. on Monday, August 22, 2016, in room 7P15-01 of the Douglas A. Munro Coast Guard Headquarters Building at St. Elizabeth's, 2703 Martin Luther King Jr. Avenue SE., Washington, DC 20593. The primary purpose of the meeting is to prepare for the third session of the International Maritime Organization's (IMO) Sub-Committee on Carriage of Cargoes and Containers (CCC 3) to be held at the IMO Headquarters, United Kingdom, on September 5-9, 2016.

The agenda items to be considered include:

—Decisions of other IMO bodies

—Amendments to the IGF Code and development of guidelines for low-flashpoint fuels

—Safety requirements for carriage of liquefied hydrogen in bulk

—Amendments to the IMSBC Code and supplements

—Amendments to the IMDG Code and supplements

—Amendments to SOLAS regulations II-2/20.2 and II-2/20-1 to clarify the fire safety requirements for cargo spaces containing vehicles with fuel in their tanks for their own propulsion

—Suitability of high manganese austenitic steel for cryogenic service and development of any necessary amendments to the IGC Code and IGF Code

—Mandatory requirements for classification and declaration of solid bulk cargoes as harmful to the marine environment

—Unified interpretation of provisions of IMO safety, security and environment-related conventions

—Consideration of reports of incidents involving dangerous goods or marine pollutants in packaged form on board ships or in port areas

Members of the public may attend this meeting up to the seating capacity of the room. Upon request to the meeting coordinator, members of the public may also participate via teleconference. To facilitate the building security process, and to request reasonable accommodation, those who plan to attend should contact the meeting coordinator, Ms. Amy Parker, by email at Amy.M.Parker@uscg.mil, by phone at (202) 372-1423, or in writing at 2703 Martin Luther King Jr. Ave. SE., Stop 7509, Washington, DC 20593-7509, not later than August 15, 2016. Requests made after August 15, 2016 might not be able to be accommodated. The building is accessible by taxi, public transportation, and privately owned conveyance (upon request). Please note that due to security considerations, two valid, government issued photo identifications must be presented to gain entrance to the Coast Guard Headquarters building. It is recommended that attendees arrive no later than 30 minutes ahead of the scheduled meeting for the security screening process.

Additional information regarding this and other IMO public meetings may be found at: www.uscg.mil/imo.

Dated: July 26, 2016.
Jonathan W. Burby,
Coast Guard Liaison Officer, Office of Ocean and Polar Affairs, Department of State.

[FR Doc. 2016-18379 Filed 8-4-16; 8:45 am]

BILLING CODE 4710-09-P